POSTAL SERVICE BOARD OF GOVERNORS

Sunshine Act Meeting

TIMES AND DATES: 10 a.m., Monday, July 9, 2001; 9 a.m., Tuesday, July 10, 2001.

PLACE: Evansville, Indiana, at the Aztar Hotel, 421 Northwest Riverside Drive, in the Las Vegas and Atlantic City Rooms.

STATUS: July 9 (Closed); July 10 (Open).

MATTERS TO BE CONSIDERED:

Monday, July 9-10 a.m. (Closed)

1. Financial Performance.

2. Fiscal Year 2002 Establish/Deploy Report.

3. Fiscal Year 2002 EVA Pay for Performance Program.

4. Fiscal Year 2002 Financial Outlook.

5. Rate Case Briefing.

6. EEO Feasibility Study.

7. Update on Five-Day Delivery Study.

8. Strategic Planning.

9. Comprehensive Issues.

10. Personnel Matters.

Tuesday, July 10—9 a.m. (Open)

1. Minutes of the Previous Meeting, June 4-5, 2001.

2. Remarks of the Postmaster General and CEO.

3. Quarterly Report on Service Performance.

4. Capital Investments.

a. Bethesda, West Bethesda Branch, Maryland.

b. Fairfax, Virginia, Main Post Office.

5. Report on the Kentuckiana Performance Cluster.

6. Tentative Agenda for the August 6, and September 10-11, 2001, meetings in Washington, DC.

CONTACT PERSON FOR MORE INFORMATION: David G. Hunter, Secretary of the Board, U.S. Postal Service, 475 L'Enfant Plaza, SW., Washington, DC. 20260-1000. Telephone (202) 268-4800.

David G. Hunter,
Secretary.

[FR Doc. 01-16456 Filed 6-26-01; 2:06 pm]

BILLING CODE 7710-12-M